ENVIRONMENTAL PROTECTION AGENCY

[FRL-6730-4]

Notice of Open Meeting of the Environmental Financial Advisory Board on August 7-8, 2000

The Environmental Protection Agency's (EPA) Environmental Financial Advisory Board (EFAB) will hold an open meeting of the full Board in San Francisco, California on August 7-8, 2000. The meeting will be held at the World Trade Club, Ferry Building, in the International Room. The Monday, August 7 session will run from 9:00 a.m. to 5:00 p.m. and the August 8 session will begin at 8:30 a.m. and end at approximately 12 noon.

EFAB is chartered with providing analysis and advice to the EPA Administrator on environmental finance. The purpose of this meeting is to discuss progress with work products under EFAB's current strategic action agenda and to develop an action agenda to direct the Board's activities. Environmental financing topics expected to be discussed include: Financing Issues Related to the Office of Water's Gap Analysis, Environmental and Multi-State Revolving Funds, Cost-effective Environmental Management, Brownfields Redevelopment, and International Environmental Financing.

The meeting is open to the public, but seating is limited. For further information, please contact Vanessa Bowie, EFAB Coordinator, U.S. EPA on (202) 564-5186.

Dated: June 28, 2000.
Ronald Bachand,
Acting Deputy Comptroller.

[FR Doc. 00-17071 Filed 7-5-00; 8:45 am]

BILLING CODE 6560-50-P